DEPARTMENT OF AGRICULTURE

Rural Housing Service

[Docket No. RHS-22-NONE-0013]

60-Day Notice of Proposed Information Collection: Analyzing Credit Needs and Graduation of Borrowers; OMB Control No.: 0575-0093

AGENCY: Rural Housing Service, USDA.

ACTION: Notice; request for comments.

SUMMARY: In accordance with the Paperwork Reduction Act of 1995, as amended, the United States Department of Agriculture (USDA), the Rural Housing Service (Agency) announces its' intention to request an extension of a currently approved information collection and invites comments on this information collection.

DATES: Comments on this notice must be received by September 20, 2022 to be assured of consideration.

ADDRESSES: Comments may be submitted electronically by the Federal eRulemaking Portal: Go to http://www.regulations.gov and, in the “Search Field” box, labeled “Search for Rules, Proposed Rules, Notices or Supporting Documents,” enter the following docket number: (RHS-22-NONE-0013). To submit or view public comments, click the “Search” button, select the “Documents” tab, then select the following document title: (60-Day Notice of Proposed Information Collection: Analyzing Credit Needs and Graduation of Borrowers; OMB Control No.: 0575-0093) from the “Search Results” and select the “Comment” button. Before inputting your comments, you may also review the “Commenter's Checklist” (optional). Insert your comments under the “Comment” title, click “Browse” to attach files (if available). Input your email address and select “Submit Comment.”

Information on using Regulations.gov, including instructions for accessing documents, submitting comments, and viewing the docket after the close of the comment period, is available through the site's “FAQ” link.

Other Information: Additional information about Rural Development and its programs is available on the internet at https://www.rd.usda.gov.

All comments will be available for public inspection online at the Federal eRulemaking Portal (https://www.regulations.gov).

FOR FURTHER INFORMATION CONTACT: Crystal Pemberton, Management Analyst, Branch 1, Rural Development Innovation Center—Regulations Management Division, United States Department of Agriculture, 1400 Independence Avenue SW, South Building, Washington, DC 20250-1522. Telephone: 202-260-8621. Email Crystal.Pemberton@usda.gov.

SUPPLEMENTARY INFORMATION: The Office of Management and Budget's (OMB) regulation (5 CFR 1320) implementing provisions of the Paperwork Reduction Act of 1995 (Pub. L. 104-13) requires that interested members of the public and affected agencies have an opportunity to comment on information collection and recordkeeping activities (see, 5 CFR 1320.8(d)). This notice identifies the following information collection that the Agency is submitting to OMB as extension to an existing collection with Agency adjustment.

Title: 7 CFR part 1951; subpart F, Analyzing Credit Needs and Graduation of Borrowers.

OMB Control Number: 0575-0093.

Expiration Date of Approval: November 30, 2022.

Type of Request: Extension of a currently approved information collection.

Estimate of Burden: Public reporting burden for this collection of information is estimated to average 1 hours per response.

Respondents: Public bodies, Not for Profits, or Indian Tribes.

Estimated Number of Respondents: 437.

Estimated Number of Responses per Respondent: 1.

Estimated Number of Hours per Response: 2.

Estimated Total Annual Burden on Respondents: 884.

Abstract: Section 333 of the Consolidated Farm and Rural Development Act (CONACT) (7 U.S.C. 1983) requires the Agencies to graduate their direct loan borrowers to other credit when possible. Graduation is required because the Government loans are not to be extended beyond a borrower's need for subsidized rates or Government credit. Borrowers must refinance their direct Government loan when other credit becomes available at reasonable rates and terms. If other credit is not available, the Agencies will continue to periodically review the account for possible graduation intervals. The information collected to carry out these statutory mandates is financial data such as amount of income, operating expenses, asset values and liabilities. This information collection is then submitted by the Agencies to private creditors. The reporting burden covered by this collection of information consists of forms, documents and written burden to support a request for funding for analyzing credit needs and graduation of borrowers.

Comments are invited on:

(a) Whether the proposed collection of information is necessary for the proper performance of the functions of the Agency, including whether the information will have practical utility;

(b) the accuracy of the Agency's estimate of the burden of the proposed collection of information including the validity of the methodology and assumptions used;

(c) ways to enhance the quality, utility and clarity of the information to be collected; and

(d) ways to minimize the burden of the collection of information on those who are to respond, including through the use of appropriate automated, electronic, mechanical, or other technological collection techniques or other forms of information technology.

Copies of this information collection can be obtained from Crystal Pemberton, Rural Development Innovation Center—Regulations Management Division, at 202-260-8621. Email: Crystal.Pemberton@usda.gov.

All responses to this notice will be summarized and included in the request for OMB approval. All comments will also become a matter of public record.

Joaquin Altoro,
Administrator, Rural Housing Service.

[FR Doc. 2022-15650 Filed 7-21-22; 8:45 am]

BILLING CODE 3410-XV-P